DEPARTMENT OF ENERGY

Federal Energy Regulatory Commission

Combined Notice of Filings #1

Take notice that the Commission received the following electric corporate filings:

Docket Numbers: EC16-17-000.

Applicants: Prairie Breeze Wind Energy II LLC.

Description: Application for Authorization Under Section 203 of the Federal Power Act and Request for Waivers and Expedited Action of Prairie Breeze Wind Energy II LLC.

Filed Date: 10/19/15.

Accession Number: 20151019-5386.

Comments Due: 5 p.m. ET 11/9/15.

Take notice that the Commission received the following electric rate filings:

Docket Numbers: ER10-2331-042; ER14-630-019; ER10-2319-034; ER10-2317-034; ER13-1351-016; ER10-2330-041.

Applicants: J.P. Morgan Ventures Energy Corporation, AlphaGen Power LLC, BE Alabama LLC, BE CA LLC, Florida Power Development LLC, Utility Contract Funding, L.L.C.

Description: Updated Notice of Non-Material Change in Status of JPMorgan Sellers.

Filed Date: 10/20/15.

Accession Number: 20151020-5188.

Comments Due: 5 p.m. ET 11/10/15.

Docket Numbers: ER11-47-006; ER14-594-006; ER14-2477-003; ER14-2476-003; ER14-2475-003; ER13-1896-009; ER12-2343-004; ER12-1544-004; ER12-1542-004; ER12-1541-004; ER12-1540-004; ER11-46-009; ER11-41-006; ER10-2981-006; ER10-2975-009.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc. CSW Energy Services, Inc., AEP Retail Energy Partners LLC, AEP Energy, Inc., AEP Generation Resources Inc.

Description: Supplement to June 26, 2015 Updated Market Power Analysis in the Southwest Power Pool balancing area authority of the AEP MBR affiliates.

Filed Date: 10/19/15.

Accession Number: 20151019-5403.

Comments Due: 5 p.m. ET 11/9/15.

Docket Numbers: ER12-2065-002; ER14-2472-002; ER15-1721-001.

Applicants: Aequitas Energy, Inc., Agera Energy LLC, energy.me midwest llc.

Description: Notice of Non-Material Change in Status of Aequitas Energy, Inc., et al.

Filed Date: 10/19/15.

Accession Number: 20151019-5388.

Comments Due: 5 p.m. ET 11/9/15.

Docket Numbers: ER14-2274-001.

Applicants: Aesir Power, LLC.

Description: Notice of Change in Status of Aesir Power, LLC.

Filed Date: 10/19/15.

Accession Number: 20151019-5393.

Comments Due: 5 p.m. ET 11/9/15.

Docket Numbers: ER15-1061-001.

Applicants: New York Independent System Operator, Inc.

Description: Compliance filing: NYISO compliance notify effective date and errata correction to shortage pricing to be effective 11/4/2015.

Filed Date: 10/20/15.

Accession Number: 20151020-5209.

Comments Due: 5 p.m. ET 11/10/15.

Docket Numbers: ER15-2631-003.

Applicants: Odell Wind Farm, LLC.

Description: Tariff Amendment: Revised Application to be effective 11/9/2015.

Filed Date: 10/19/15.

Accession Number: 20151019-5350.

Comments Due: 5 p.m. ET 11/9/15.

Docket Numbers: ER15-2742-000.

Applicants: Panda Patriot LLC.

Description: Supplement to September 29, 2015 Panda Patriot LLC tariff filing.

Filed Date: 10/19/15.

Accession Number: 20151019-5397.

Comments Due: 5 p.m. ET 11/9/15.

Docket Numbers: ER16-120-000.

Applicants: New York Independent System Operator, Inc.

Description: Compliance filing: Compliance filing—Reliability Must Run to be effective 10/20/2015.

Filed Date: 10/19/15.

Accession Number: 20151019-5349.

Comments Due: 5 p.m. ET 11/9/15.

Docket Numbers: ER16-121-000.

Applicants: PJM Interconnection, L.L.C.

Description: Section 205(d) Rate Filing: Revisions to OATT Att K-Appx—FTR/ARR Revisions to be effective 12/31/9998.

Filed Date: 10/19/15.

Accession Number: 20151019-5355.

Comments Due: 5 p.m. ET 11/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2015.
Nathaniel J. Davis, Sr.,
Deputy Secretary.

[FR Doc. 2015-27182 Filed 10-26-15; 8:45 am]

BILLING CODE 6717-01-P